GENERAL SERVICES ADMINISTRATION

[OMB Control No. 3090-00XX]

General Services Administration; Office of Governmentwide Policy; Submission for Review; Tangible Personal Property Report; Standard Form SF-428

AGENCY: Office of Governmentwide Policy, General Services Administration (GSA).

ACTION: Notice of request for comments regarding a new OMB clearance.

SUMMARY: Under the provisions of the Paperwork Reduction Act of 1995 (44 U.S.C. Chapter 35), the GSA will be submitting to the Office of Management and Budget (OMB) a request to review and approve a new information collection requirement regarding tangible personal property. Requests for public comments were published in the Federal Register at 72 FR 64648, November 16, 2007 and 73 FR 67175, November 13, 2008. Comments were received.

Public comments are particularly invited on: Whether this collection of information is necessary and whether it will have practical utility; whether our estimate of the public burden of this collection of information is accurate, and based on valid assumptions and methodology; and ways to enhance the quality, utility, and clarity of the information to be collected.

DATES: Submit comments on or before: April 26, 2010.

FOR FURTHER INFORMATION CONTACT: Mr. Michael Nelson, Chair, Post-Award Workgroup; telephone 301-443-6808; e-mail MNelson@hrsa.gov; mailing address 1401 Constitution Avenue, NW., Room 6054, Washington, DC 20230.

ADDRESSES: Submit comments regarding this burden estimate or any other aspect of this collection of information, including suggestions for reducing this burden to GSA Desk Officer, OMB, Room 10236, NEOB, Washington, DC 20503, and a copy to the Regulatory Secretariat (MVCB), General Services Administration, 1800 F Street, NW., Room 4041, Washington, DC 20405. Please cite OMB Control No. 3090-XXXX, Tangible Personal Property Report, in all correspondence.

SUPPLEMENTARY INFORMATION:

A. Purpose

GSA, on behalf of the Grants Policy Committee, is issuing a new information collection requirement regarding reporting personal tangible property. The new standard form, the Tangible Personal Property Report (SF-428) is available on OMB's main Web page at http://www.whitehouse.gov/omb/grants_standard_report_forms/.

B. Comments

One comment requested clarification as to whether the new report would take precedence over specific reporting requirements in the provisions of existing awards. The response in 73 FR 67175, November 13, 2008 clarified that the Tangible Personal Property Report will replace any agency unique forms currently in use, but it does not create any new reporting requirements. One comment requested clarification of the instructions for annual property reporting. The instructions were revised to clarify that annual reporting is required only for Federally owned property. One comment suggested renaming the form to more easily distinguish the attachments. A letter designation was added to the attachments.

C. Burden Estimates

The burden estimate below is for the following agencies: DOE, EPA, DOD, SSA, IMLS, DOC, DHS, HHS OPDIVs, HUD, NEA, NEH, ED, VA.

Estimated number of respondents: 14,666.

Estimated average burdens hours per response: 2.2737.

Estimated Total Annual Burden Hours: 33,346.5.

Estimated Cost: There is no expected cost to the respondents or to OMB.

Annual Burden Estimates
Instrument | Agency | Number of respondents | Number of responses per respondent | Average burden hours per response | Total burden hours
Tangible Personal Property Report (TPPR) and Attachments | DOE | 750 | 1.5 | 2.75 | 3094
Tangible Personal Property Report (TPPR) and Attachments | EPA | 300 | 1 | 2 | 600
Tangible Personal Property Report (TPPR) and Attachments | DOD | 300 | 1 | 2.75 | 825
Tangible Personal Property Report (TPPR) and Attachments | SSA | 125 | 1 | 2 | 250
Tangible Personal Property Report (TPPR) and Attachments | IMLS | 1000 | 1.5 | 2 | 3000
Tangible Personal Property Report (TPPR) and Attachments | DOC | 130 | 1 | 2 | 260
Tangible Personal Property Report (TPPR) and Attachments | DHS | 972 | 1.5 | 2.75 | 4009.5
Tangible Personal Property Report (TPPR) and Attachments | HHS OPDIVs | 7681 | 1 | 2 | 15362
Tangible Personal Property Report (TPPR) and Attachments | HUD | 4158 | 1 | 1.43 | 5946
Tangible Personal Property Report (TPPR) and Attachments | NEA | 0 | 0 | 0 | 0
Tangible Personal Property Report (TPPR) and Attachments | NEH | 0 | 0 | 0 | 0
Tangible Personal Property Report (TPPR) and Attachments | ED | 0 | 0 | 0 | 0
Tangible Personal Property Report (TPPR) and Attachments | VA | 0 | 0 | 0 | 0

Obtaining Copies of Proposals: Requesters may obtain a copy of the information collection documents from the General Services Administration, Regulatory Secretariat (MVCB), 1800 F Street, NW., Room 4041, Washington, DC 20405, telephone (202) 501-4755. Please cite OMB Control No. 3090-XXXX, Tangible Personal Property Report, in all correspondence.

Dated: March 18, 2010.
Casey Coleman,
Chief Information Officer.

[FR Doc. 2010-6608 Filed 3-24-10; 8:45 am]

BILLING CODE 6820-RH-P